DEPARTMENT OF ENERGY

Federal Energy Regulatory Commission

18 CFR Parts 260, 357 and 385

[Docket No. RM03-3-000; Order No. 628]

Before Commissioners: Pat Wood, III, Chairman; William L. Massey, and Nora Mead Brownell; Elimination of the Paper Filing Requirements of FERC Form Nos. 2, 2-A and 6; Order No. 628

Issued December 26, 2002.

AGENCY: Federal Energy Regulatory Commission.

ACTION: Final rule.

SUMMARY: The Federal Energy Regulatory Commission (Commission) is amending its regulations to eliminate the paper filing requirements of Form Nos. 2 (Form 2), 2-A (Form 2-A), and 6 (Form 6). Commencing with the calendar year 2002 report filing due March 31, 2003 for the Form 2-A and Form 6, and April 30, 2003 for the Form 2, only electronic submission using Commission-provided software will be required. The elimination of the paper submissions yields significant benefits to the respondents and the Commission. These benefits include reduced printing and handling costs and an overall reduction in filing burden for the respondents, and a reduction in processing and maintenance costs incurred by the Commission.

Effective Date: This final rule is effective February 3, 2003.

FOR FURTHER INFORMATION CONTACT:

James M. Krug (Technical Information), Office of Markets, Tariffs and Rates, FERC, 888 First Street, NE., Washington, DC 20426, (202) 502-8419, james.krug@ferc.gov.

Bolton Pierce (Electronic System), Office of Markets Tariffs and Rates, FERC, 888 First Street, NE., Washington, DC 20426, (202) 502-8803, bolton.pierce@ferc.gov.

Julia Lake (Legal Information), Office of General Counsel, FERC, 888 First Street, NE., Washington, DC 20426, (202) 502-8370, julia.lake@ferc.gov.

SUPPLEMENTARY INFORMATION:

I. Introduction

1. This Final Rule revises parts 260, 357 and 385 of the Commission's regulations to require only the electronic filing of the FERC Form No. 2 “Annual Report for Major Natural Gas Companies” (Form 2), FERC Form No. 2-A “Annual Report for Nonmajor Natural Gas Companies” (Form 2-A) and FERC Form No. 6 “Annual Report of Oil Pipeline Companies” (Form 6). Commencing with the reports for calendar year 2002, due no later than March 31, 2003 for the Form 2-A and Form 6, and April 30, 2003 for the Form 2, there will be no further requirement for paper copy filings. The Commission has determined that the elimination of the paper copies of the Forms 2, 2-A and 6 will provide significant benefits to both the respondents and the Commission. These benefits include reduced printing and handling costs and an overall reduction in filing burden for the respondents, and a reduction in processing and maintenance costs incurred by the Commission.

II. Background

Forms 2 and 2-A

2. Forms 2 and 2-A data are collected pursuant to Sections 8 and 10 of the Natural Gas Act (NGA). Section 8 of the NGA ¹ gives the Commission the authority to issue regulations and rules requiring natural gas companies to make, keep and preserve accounts, records, correspondence, memoranda, papers and books. Section 10 of the NGA ² gives the Commission authority through rules and regulations to require periodic and special reports. The Commission's Forms 2 and 2-A filing requirements are found at 18 CFR 260.1 and 260.2.

¹ 15 U.S.C. 717g.

² 15 U.S.C. 717i.

3. Forms 2 and 2-A collect general corporate information that includes: Summary financial information, balance sheets and income statements and supporting information, gas plant information, operating expenses and statistical data. The information is used in the continuous review of the financial condition of jurisdictional natural gas companies, in various rate proceedings and in the Commission's audit program. Forms 2 and 2-A data are also used to compute annual charges which are assessed against each jurisdictional natural gas company and which are necessary to recover the Commission's annual costs.

4. Form 2 is filed by respondents determined to be “Major Companies.” A respondent is defined as a “Major Company” if it meets the following requirement: having combined gas transported or stored for a fee that exceeds 50 million Dth in each of the three previous calendar years. For the Form 2-A, a respondent is defined as a “Non Major Company” if it meets the following requirement: has total annual gas sales or volume transactions exceeding 200,000 Dth in each of the three previous calendar years, and it is not classified as “Major.”

5. The Forms 2 and 2-A are annual submissions from approximately 62 and 48, jurisdictional natural gas companies, respectively. Earlier this year, the Office of Management and Budget (OMB) approved 3-year extensions for both Forms.

Form 6

6. In 1977, the responsibility to regulate oil pipeline companies was transferred to the Commission from the Interstate Commerce Commission (ICC).³ In accordance with the transfer of authority, the Commission was delegated the responsibility under section 1 of the Interstate Commerce Act (ICA) ⁴ to regulate the rates and charges for transportation of oil by pipeline and establish the valuation of those pipelines, and under section 20 of the ICA to require pipelines to file annual and other reports of information necessary to exercise its statutory responsibilities.⁵

³ Section 402(b) of the Department of Energy Reorganization Act (DOE Act) 42 U.S.C. 7172(b), provides that: “there are hereby transferred to, and vested in, the Commission all functions and authority of the Interstate Commerce Commission or any officer of component of such Commission where the regulatory function establishes rates or charges for the transportation of oil by pipeline or establishes the valuation of any such pipeline.”

⁴ 49 App. U.S.C. 1 (1998).

⁵ 49 App. U.S.C. 20 (1988).

7. Section 357.2 of the Commission's regulations requires every pipeline carrier subject to the provisions of section 20 of the ICA to file, on or before March 31 of each year, copies of Form 6 “Annual Report of Oil Pipeline Companies.” ⁶ The amount of information a Form 6 respondent submits is based on its jurisdictional operating revenues for each of the three preceding calendar years:

⁶ 18 CFR 357.2

(a) Those carriers having annual jurisdictional operating revenues of $500,000 or more for each of the three previous calendar years must prepare and file with the Commission a complete Form 6.

(b) Those carriers having annual jurisdictional operating revenues greater than $350,000 but less than $500,000 for each of the three previous calendar years must prepare and file page 1 of Form 6, “Identification and Attestation Schedule,” page 301, “Operating Revenue Accounts (Account 600),” and page 700, “Annual Cost of Service Based Analysis Schedule.”

(c) Those carriers having annual jurisdictional operating revenues of $350,000 or less for each of the three previous calendar years must prepare and file page 1 of Form 6, “Identification and Attestation Schedule” and page 700, “Annual Cost of Service Based Analysis Schedule.”

8. The Form 6 collects general corporate information that includes: summary financial information, balance sheets and income statements and supporting information, operating expenses and plant statistical data. The information is used in the continuous review of the financial condition of jurisdictional companies, in various rate proceedings and in the Commission's audit program. Form 6 data is also used to compute annual charges which are assessed against each jurisdictional oil pipeline and which are necessary to recover the Commission's annual costs.

9. The Form 6 is an annual submission from approximately 171 jurisdictional oil pipeline companies. In 2001, the Office of Management and Budget (OMB) approved a 3-year extension for the Form.

III. Discussion

10. In this Final Rule, the Commission is eliminating the requirement to file paper copies of Forms 2, 2-A and 6, and now will require only electronic copies.

11. Current filing regulations for the Forms 2, 2-A and 6 require the respondents to use Commission-distributed submission software ⁷ to produce both electronic and paper submissions of the forms. The submission software provides a user interface for data entry, printing, and uploading of the electronic filing to the Commission. The electronic submission—which is in a database format that is compatible with many off-the-shelf commercial software programs—is processed and made available to staff and the public within 24 hours after filing. The electronic filing is then used to create an electronic version (PDF) of the paper forms that can be accessed through the Commission's document retrieval system (the Federal Energy Regulatory Records Information System (FERRIS)). Alternatively, interested persons can view and print paper copies of the electronically filed data by using the Commission's Form 2/2-A or Form 6 viewer software which is also available for download on the FERC's Web site.

⁷ Forms 2/2A and 6 submission software are Windows 95/98/2000/ME/NT/XP compatible and can be downloaded from the FERC's Web site at: http://www.rimsweb2.ferc.fed.us/form2 and http://www.rimsweb2.ferc.fed.us/form6.

12. With the availability of the Form 2/2-A and Form 6 submission software, the Form 2/2-A and Form 6 viewer software and FERRIS, there is no need for paper submissions of Forms 2, 2-A and 6. The Commission will continue to provide staff and the public access and the ability to print copies of these Forms, however. The Commission's elimination of the paper submissions of the Forms 2, 2-A and 6 thus should not have an adverse impact on users of the Forms.

13. This Final Rule is part of the Commission's ongoing efforts to revise and streamline its existing reporting requirements, reduce the filing burden on reporting companies, and meet the Paperwork Reduction Act of 1995.

14. Notice and comment procedures are not necessary in this rulemaking docket because the Commission is not changing the contents of the Forms 2, 2-A and 6, but merely eliminating the paper filing requirements.

IV. Environmental Statement

15. Commission regulations require that an environmental assessment or an environmental impact statement be prepared for any Commission action that may have a significant adverse effect on the human environment.⁸ No environmental consideration is necessary for the promulgation of a rule that is clarifying, corrective, or procedural, or that does not substantially change the effect of legislation or regulations being amended,⁹ and also for information gathering, analysis, and dissemination.¹⁰ This Final Rule does not substantially change the effect of the regulations being amended. In addition, this Final Rule involves information gathering, analysis and dissemination. Therefore, this Final Rule falls within the categorical exemption provided in the Commission's regulations. Consequently, neither an environmental impact statement nor an environmental assessment is required.

⁸ Regulations Implementing National Environmental Policy Act, 52 FR 47897 (Dec. 17, 1987), FERC Stats. & Regs. ¶ 30,783 (1987).

⁹ 18 CFR 380.4(a)(2)(ii).

¹⁰ 18 CFR 380.4(a)(5).

V. Regulatory Flexibility Act

16. In Mid-Tex Elect. Coop. v. FERC, 773 F.2d 327 (DC. Cir. 1985), the court found that Congress, in passing the Regulatory Flexibility Act (RFA),¹¹ intended agencies to limit their consideration under the RFA “to small entities that would be directly regulated” by proposed rules. Id. at 342. The court further concluded that “the relevant ‘economic impact' was the impact of compliance with the proposed rule on regulated small entities.” Id.

¹¹ 5 U.S.C. 601-612.

17. This Final Rule will reduce the reporting burden for all reporting companies, including small reporting companies. The Commission also finds that most of the filing companies regulated by the Commission do not fall within the RFA's definition of a small entity.¹² The Commission therefore certifies that this Final Rule will not have a significant economic impact on a substantial number of small entities.

¹² 5 U.S.C. 601(3), citing to section 3 of the Small Business Act, 15 U.S.C. 632. Section 3 of the Small Business Act defines a “small-business concern” as a business which is independently owned and operated and which is not dominant in its field of operation.

VI. Information Collection Statement

18. The Office of Management and Budget (OMB) regulations require that OMB approve certain reporting and record keeping (collections of information) imposed by an agency. The information collection requirements in this Final Rule are contained in Form 2, “Annual Report for Major Natural Gas Companies” (OMB Control No. 1902-0028), FERC Form 2-A “Annual Report for Nonmajor Natural Gas Companies” (OMB Control No. 1902-0030), and Form 6 “Annual Report of Oil Pipeline Companies” (OMB Control No. 1902-0022). Form 2 most recently received OMB approval on March 29, 2002, for the period through March 31, 2005. Form 2-A received OMB approval on April 2, 2002, for the period through April 30, 2005. Form 6 received OMB approval on March 29, 2001, for the period through March 31, 2004.

19. The elimination of the paper submissions is part of the Commission's ongoing program to reduce reporting burdens. As explained below, the shift to a paperless filing of the Forms 2, 2-A and 6 will reduce the burden on regulated companies for reporting and maintaining information under the Commission's Forms 2, 2-A and 6 regulations.

20. The regulated entity shall not be penalized for failure to respond to this collection of information unless the collection of information displays a valid OMB control number.

Title: FERC Form No. 2, “Annual Report for Major Natural Gas Companies”; FERC Form No. 2-A, “Annual Report for Nonmajor Natural Gas Companies”; FERC Form No. 6, “Annual Report of Oil Pipeline Companies”.

Action: Revision of Currently Approved Collections of Information.

OMB Control Nos.: 1902-0022, 1902-0028 and 1902-0030.

Respondents: Jurisdictional Natural Gas and Oil Pipeline Companies.

Frequency of Responses: Annually.

Reporting Burden: Form 2: With the elimination of the paper submission, the Commission estimates a savings of $560 per respondent due to reduced printing and handling costs. For the Federal government, the cost savings for the Form 2 will be $10,000 due to a reduction in processing and maintenance costs.

Form 2-A: With the elimination of the paper submission, the Commission estimates a savings of $354 per respondent due to reduced printing and handling costs. For the Federal government, the cost savings for the Form 2-A will be $6,000 due to a reduction in processing and maintenance costs.

Form 6: With the elimination of the paper submission, the Commission estimates a savings of $369 per respondent due to reduced printing and handling costs. For the Federal government, the cost savings for the Form 6 will be $3,748 due to a reduction in processing and maintenance costs.

21. The proposed paperless filing requirements conform to the Commission's plan for efficient information collection, communication and management within the natural gas and oil pipeline industries. These changes will continue to contribute to well-informed decision-making and streamlined workload processing.

22. Interested persons may obtain information on the reporting requirements by contacting the following: Federal Energy Regulatory Commission, 888 First Street, NE., Washington, DC 20426, Attention: Michael Miller, Office of the Chief Information Officer, Phone: (202) 502-8415; Fax: (202) 273-0873, e-mail: michael.miller@ferc.gov.

23. For the submission of comments concerning the collection of information and the associated burden estimates, please send your comments to the contact listed above or to the Office of Management and Budget, Office of Information and Regulatory Affairs, Washington, DC 20503 (Attention: Desk Officer for the Federal Energy Regulatory Commission, phone (202) 395-7856; Fax: (202) 395-7285).

VII. Document Availabilty

24. In addition to publishing the full text of this document in the Federal Register, the Commission provides all interested persons an opportunity to view and/or print the contents of this document via the Internet through the Commission's Home Page (http://www.ferc.gov) and in FERC's Public Reference Room during normal business hours (8:30 a.m. to 5 p.m. Eastern time) at 888 First Street, NE., Room 2A, Washington, DC 20426.

25. From the Commission's Home Page on the Internet, this information is available in FERRIS. The full text of this document is available on FERRIS in PDF and WordPerfect format for viewing, printing, and/or downloading. To access this document in FERRIS, type the docket number (excluding the last three digits of this document) in the document number field.

26. User assistance is available for FERRIS and the Commission's Web site during regular business hours from our Help line at (202) 502-8222 or the Public Reference Room at (202) 502-8371, TTY (202) 502-8659. Please e-mail the Public Reference Room at public.referenceroom@ferc.gov.

VIII. Effective Date and Congressional Notification

27. This Final Rule will take effect February 3, 2003. The Commission has determined, with the concurrence of the Administrator of the Office of Information and Regulatory Affairs of the Office of Management and Budget, that this rule is not a “major rule” within the meaning of Section 251 of the Small Business Regulatory Enforcement Fairness Act of 1996.¹³ The Commission will submit the Final Rule to both houses of Congress and the General Accounting Office.¹⁴

¹³ 5 U.S.C. 804(2).

¹⁴ 5 U.S.C. 801(a)(1)(A).

List of Subjects

18 CFR Part 260

Natural gas, Reporting and recordkeeping requirements.

18 CFR Part 357

Pipelines, Reporting and recordkeeping requirements, Uniform System of Accounts.

18 CFR Part 385

Administrative practice and procedure, Electric power, Penalties, Pipelines, Reporting and recordkeeping requirements.

By the Commission.
Linwood A. Watson, Jr.,
Deputy Secretary.

In consideration of the foregoing, the Commission amends parts 260, 357 and 385, Chapter I, Title 18, of the Code of Federal Regulations, as follows:

PART 260—STATEMENTS AND REPORTS (SCHEDULES)

1. The authority citation for part 260 continues to read as follows:

Authority: 15 U.S.C. 717-717w, 3301-3432; 42 U.S.C. 7101-7352.

2. In § 260.1, paragraph (b) is revised to read as follows:

§ 260.1 FERC Form No. 2, Annual report for Major natural gas companies

* * * * *

(b) Filing requirements. Each natural gas company, as defined in the Natural Gas Act (15 U.S.C. 717, et seq.) which is a major company (a natural gas company whose combined gas transported or stored for a fee exceeded 50 million Dth in each of the three previous calendar years) must prepare and file with the Commission, on or before April 30 following the close of each calendar year, FERC Form No. 2. Newly established entities must use projected data to determine whether FERC Form No. 2 must be filed. The form must be filed in electronic format only, as indicated in the general instructions set out in that form. The format for the electronic filing can be obtained at the Federal Energy Regulatory Commission, Division of Information Services, Public Reference and Files Maintenance Branch, Washington, DC 20426. One copy of the report must be retained by the respondent in its files.

3. In § 260.2, paragraph (b) is revised to read as follows:

§ 260.2 FERC Form No. 2-A, Annual report for Nonmajor natural gas companies

* * * * *

(b) Filing requirements. Each natural gas company, as defined by the Natural Gas Act, not meeting the filing threshold for FERC Form No. 2, but having total gas sales or volume transactions exceeding 200,000 Dth in each of the three previous calendar years, must prepare and file with the Commission, on or before March 31 following the close of each calendar year, FERC Form No. 2-A. Newly established entities must use projected data to determine whether FERC Form No. 2-A must be filed. The form must be filed in electronic format only, as indicated in the general instructions set out in that form. The format for the electronic filing can be obtained at the Federal Energy Regulatory Commission, Division of Information Services, Public Reference and Files Maintenance Branch, Washington, DC 20426. One copy of the report must be retained by the respondent in its files.

PART 357—ANNUAL SPECIAL OR PERIODIC REPORTS: CARRIERS SUBJECT TO PART I OF THE INTERSTATE COMMERCE ACT

4. The authority citation for part 357 continues to read as follows:

Authority: 42 U.S.C. 7101-7352, 49 U.S.C. 60502, 49 App. U.S.C. 1-85 (1988).

5. In § 357.2, paragraph (c)(3) is revised to read as follows:

§ 357.2 FERC Form No. 6, Annual Report of Oil Pipeline Companies

* * * * *

(c) What to submit. * * *

(3) The form must be filed in electronic format only pursuant to § 385.2011 of this chapter, beginning with report year 2002, due on or before March 31, 2003.

PART 385—RULES OF PRACTICE AND PROCEDURE

6. The authority citation for part 385 continues to read as follows:

Authority: 5 U.S.C. 551-557; 15 U.S.C. 717-717z, 3301-3432; 16 U.S.C 791a-825r, 2601-2645; 31 U.S.C. 9701; 42 U.S.C. 7101-7352; 49 U.S.C. 60502; 49 App. U.S.C. 1-85 (1988).

7. In § 385.2011, paragraph (c)(3) is revised to read as follows:

§ 385.2011 Procedures for filing on electronic media (Rule 2011).

* * * * *

(c) What to file.* * *

(3) With the exception of the Form Nos. 1, 2, 2-A and 6, the electronic media must be accompanied by the traditional prescribed number of paper copies.

* * * * *

[FR Doc. 03-153 Filed 1-2-03; 8:45 am]

BILLING CODE 6717-01-P